NUCLEAR REGULATORY COMMISSION

[Docket No. NRC-2013-0240]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on November 4, 2013 (78 FR 66077).

1. Type of submission, new, revision, or extension: Extension.

2. The title of the information collection: NRC Form 212 “Qualifications Investigation, Professional, Technical, and Administrative Positions.”

3. Current OMB approval number: 3150-0033.

4. The form number if applicable: NRC Form 212.

5. How often the collection is required: On occasion. The forms are collected for every new hire to the NRC.

6. Who will be required or asked to report: Former employers, supervisors, and other references indicated on job applications are asked to complete the NRC Form 212.

7. An estimate of the number of annual responses: 1,000.

8. An estimate of the total number of hours needed annually to complete the requirement or request: 500 hours.

9. Abstract: Information requested on NRC Form 212, “Qualifications Investigation, Professional, Technical, and Administrative Positions” is used to determine the qualifications and suitability of external applicants for employment with the NRC. The completed form may be used to examine, rate and/or assess the prospective employee's qualifications. The information regarding the qualifications of applicants for employment is reviewed by professional personnel of the Office of the Chief Human Capital Officer, in conjunction with other information in the NRC files, to determine the qualifications of the applicant for appointment to the position under consideration.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by February 28, 2014. Comments received after this date will be considered if it is practical to do so, but assurance of consideration cannot be given to comments received after this date.

Chad Whiteman, Desk Officer, Office of Information and Regulatory Affairs (3150-0033), NEOB-10202, Office of Management and Budget, Washington, DC 20503.

Comments can also be emailed to Chad_S_Whiteman@omb.eop.gov or submitted by telephone at 202-395-4718.

The Acting NRC Clearance Officer is Kristen Benney, telephone: 301-415-6355.

Dated at Rockville, Maryland, this 23rd day of January, 2014.
For the Nuclear Regulatory Commission.
Kristen Benney,
Acting NRC Clearance Officer, Office of Information Services.

[FR Doc. 2014-01647 Filed 1-28-14; 8:45 am]

BILLING CODE 7590-01-P